DEPARTMENT OF COMMERCE

National Oceanic and Atmospheric Administration

50 CFR Part 679

[Docket No. 141021887-4887-01]

RIN 0648-XD587

Fisheries of the Exclusive Economic Zone Off Alaska; Bering Sea and Aleutian Islands; 2015 and 2016 Harvest Specifications for Groundfish

Correction

In proposed rule 2014-28633 appearing on pages 72571-72593 in the issue of December 8, 2014, make the following correction:

On page 72586, replace Tables 10, 11, and 12, which are duplicated on page 72587, with the following tables:

BILLING CODE 1505-01-D

[FR Doc. C1-2014-28633 Filed 1-20-15; 8:45 am]

BILLING CODE 1505-01-C